DEPARTMENT OF ENERGY

Federal Energy Regulatory Commission

[Project No. 3211-010]

Power Authority of New York; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 3211-010.

c. Date filed: July 31, 2020.

d. Applicant: Power Authority of the State of New York (Power Authority or NYPA).

e. Name of Project: Hinckley (Gregory B. Jarvis) Hydroelectric Project (Gregory B. Jarvis Project).

f. Location: The existing project is located on West Canada Creek, a tributary to the Mohawk River, at the Hinkley Reservoir dam, approximately 0.5 mile upstream of the Hamlet of Hinckley in the counties of Oneida and Herkimer, New York. The project does not affect federal land.

g. Filed Pursuant to: Federal Power Act 16 U.S.C. 791(a)-825(r).

h. Applicant Contact: Cindy Brady, New York Power Authority, 123 Main Street, White Plains, NY 10601; (914) 390-8070, Cynthia.Brady@nypa.gov.

i. FERC Contact: Emily Carter, (202) 502-6512, emily.carter@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number P-3211-010.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Gregory B. Jarvis Project consists of the following facilities: (1) A 570-foot-long dam; (2) a 2,600-foot-long south embankment dam; (3) a 400-foot-long ogee-type, cyclopean concrete spillway with a crest elevation of 1,225 feet; ¹ (4) a 65-foot-long, 82-foot-high non-overflow cyclopean concrete intake structure with the top at 1,240 feet; (5) intake structure trash racks with 5.375-inch clear-spacing; (6) a 15-foot-diameter penstock, which bifurcates into two 90-foot-long, 10.5-foot-diameter penstocks; (7) two 3-foot by 4-foot gate valves that lead to a 42-inch-diameter sluice gate; (8) a 120-foot-long, 55-foot-wide, 43-foot-high semi-underground powerhouse located 200 feet downstream of the non-overflow intake structure; (9) two 4.5-megawatt horizontal Kaplan turbine-generator units; (10) an underground transformer; (11) a 280-foot-long tailrace; (12) a 60-inch-diameter water pipe used as a low-level outlet; (13) two 4.16-kilovolt (kV) generator leads routed 50 feet underground to an aboveground NYPA-owned 4.16-kV/46-kV step-up transformer; (14) an approximately 300-foot-long, 46-kV underground transmission line; and (15) appurtenant facilities.

¹ All elevations are referenced to the Hinckley Datum. Elevations referenced to the Hinckley Datum are 1.04 feet higher than elevations referenced to the National Geodetic Vertical Datum of 1929 [NGVD29 or mean sea level (msl)], thus, 1,225.0 feet Hinckley Datum corresponds to 1,223.96 feet NGVD29 or msl.

The Gregory B. Jarvis Project takes advantage of the releases prescribed by the New York State Canal Corporation (NYS Canal Corp) in accordance with the 2012 Hinckley Reservoir Operating Diagram to generate power. Project operation is adjusted on a twice-weekly basis. NYPA does not deviate from the operating diagram unless directed to do so by the NYS Canal Corp. Reservoir levels are maintained between 1,195 feet and 1,225 feet (the elevation of the spillway crest); however, reservoir water levels can fall below 1,195 feet during a dry season. The Gregory B. Jarvis Project does not operate when reservoir levels are below 1,195 feet.

The project has two horizontal Kaplan units which are each capable of operating between 300 and 900 cubic feet per second (cfs) for a total hydraulic capacity of 1,800 cfs under normal operating conditions. At flows within the operating range of the units (300 to 1,800 cfs), the project provides outflow via generation. At flows below 300 cfs, or when the reservoir water surface elevation is below 1,195 feet, the project does not operate. During these conditions, the low-level sluice gate no. 4 is used to pass a minimum flow of 160 cfs. At flows greater than 1,800 cfs, and when the reservoir water surface elevation is greater than 1,225 feet, downstream releases are passed via a combination of generation and spillage.

NYPA occasionally operates the project in peaking mode. When NYPA is peaking, it will average the outflow required by the operating diagram over the course of the day. When operated in this manner, the project generates with a lower outflow during non-peak demand periods and then generates with a higher outflow during peak demand periods such that the total daily average flow is equal to the outflow prescribed by the operating diagram.

NYPA proposes to continue operating the project in the same manner as the current license and is not proposing to install any new structures as part of the relicensing. The project generated an annual average of approximately 28,863 megawatt-hours between 2010 and 2019.

m. A copy of the application is available for review on the Commission's website at http://www.ferc.gov using the “eLibrary” link. Enter the docket number excluding the last three digits in the docket number field to access the document. For assistance, contact FERC Online Support.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following schedule. Revisions to the schedule may be made as appropriate.

Milestone | Target date
Filing of comments, recommendations, preliminary terms and conditions, and preliminary fishway prescriptions | March 2022.
Filing of Reply Comments | April 2022.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

Dated: January 12, 2022.
Kimberly D. Bose,
Secretary.

[FR Doc. 2022-00925 Filed 1-18-22; 8:45 am]

BILLING CODE 6717-01-P